DEPARTMENT OF COMMERCE

International Trade Administration

[A-475-828, A-557-809, A-565-801]

Certain Stainless Steel Butt-Weld Pipe Fittings From Italy, Malaysia, and the Philippines: Final Results of the Expedited Sunset Review of the Antidumping Duty Orders

AGENCY: Enforcement and Compliance, International Trade Administration, Department of Commerce.

DATES: Applicable October 6, 2017.

SUMMARY: As a result of this sunset review, the Department of Commerce (the Department) finds that revocation of the antidumping duty orders on stainless steel butt-weld pipe fittings (butt-weld fittings) from Italy, Malaysia, and the Philippines would be likely to lead to continuation or recurrence of dumping at the rates identified in the “Final Results of Review” section of this notice.

FOR FURTHER INFORMATION CONTACT: Madeline Heeren, AD/CVD Operations, Office VI, Enforcement and Compliance, U.S. Department of Commerce, 1401 Constitution Avenue NW., Washington, DC 20230; telephone (202) 482-9179.

SUPPLEMENTARY INFORMATION:

Background

The Department published the antidumping duty orders on butt-weld fittings from Italy, Malaysia, and the Philippines on February 23, 2001.¹ On June 2, 2017, pursuant to section 751(c) of the Tariff Act of 1930, as amended (the Act), the Department initiated sunset reviews of the antidumping duty orders on butt-weld fittings from Italy, Malaysia, and the Philippines.² On June 16, 2017, the Department received a notice of intent to participate from Core Pipe Products, Inc.; Shaw Alloy Piping Products, Inc.; and Taylor Forge Stainless, Inc. (collectively, the Domestic Interested Parties), within the deadline specified in 19 CFR 351.218(d)(1)(i). The Domestic Interested Parties are manufacturers of a domestic like product in the United States and, accordingly, are domestic interested parties pursuant to section 771(9)(C) of the Act.

¹ See Antidumping Duty Orders: Stainless Steel Butt-Weld Pipe Fittings from Italy, Malaysia, and the Philippines, 66 FR 11257 (February 23, 2001) (LTFV Orders).

² See Initiation of Five-Year (Sunset) Reviews, 82 FR 25599 (June 2, 2017) (Sunset Initiation).

On June 30, 2017, the Department received an adequate substantive response to the notice of initiation from Domestic Interested Parties within the 30-day deadline specified in 19 CFR 351.218(d)(3)(i). The Department did not receive any timely filed responses from the respondent interested parties, i.e., butt-weld fitting producers and exporters from Italy, Malaysia, and the Philippines. On the basis of the notices of intent to participate and adequate substantive responses filed by the Domestic Interested Parties, and the inadequate response from any respondent interested party, the Department conducted an expedited (120-day) sunset review of the order pursuant to section 751(c)(3)(B) of the Act and 19 CFR 351.218(e)(1)(ii)(C)(2).

Scope of the Orders

The product covered by the Orders is butt-weld fittings from Italy, Malaysia, and the Philippines.³

³ For a full description of the scope of the orders, See Memorandum, “Issues and Decision Memorandum for the Expedited Sunset Review of the Antidumping Duty Orders on Stainless Steel Butt-Weld Pipe Fittings from Italy, Malaysia, and the Philippines,” dated concurrently with this notice (Decision Memorandum).

Analysis of Comments Received

The issues discussed in the Decision Memorandum are: (1) The likelihood of continuation or recurrence of dumping, and (2) the magnitude of the margins of dumping likely to prevail if these orders were revoked.⁴ Parties can find a complete discussion of all issues raised in this review, and the corresponding recommendations, in the Decision Memorandum, which is on file electronically via Enforcement and Compliance's Antidumping and Countervailing Duty Centralized Electronic Service System (ACCESS). ACCESS is available to registered users at http://access.trade.gov and is available to all parties in the Central Records Unit in room B8024 of the main Commerce building. In addition, a complete version of the Decision Memorandum can be accessed directly on the Internet at http://trade.gov/enforcement/. The signed Decision Memorandum and electronic versions of the Decision Memorandum are identical in content.

⁴ Id.

Final Results of Review

Pursuant to sections 751(c)(1) and 752(c)(1) and (3) of the Act, the Department determines that revocation of the antidumping duty orders of butt-weld pipe fittings from Italy, Malaysia, and the Philippines would likely to lead to a continuation or recurrence of dumping and that the magnitude of the dumping margins likely to prevail would be 26.59 percent for Italy, 7.51 percent for Malaysia, and up to 33.81 percent for the Philippines.

Administrative Protective Order

This notice also serves as the only reminder to parties subject to administrative protective order (APO) of their responsibility concerning the return or destruction of proprietary information disclosed under APO in accordance with 19 CFR 351.305. Timely notification of the return of destruction of APO materials or conversion to judicial protective order is hereby requested. Failure to comply with the regulations and terms of an APO is a violation which is subject to sanction.

The Department is issuing and publishing these final results and notice in accordance with sections 751(c), 752(c), and 777(i)(1) of the Act and 19 CFR 351.218.

Dated: October 2, 2017.
Gary Taverman,
Deputy Assistant Secretary for Antidumping and Countervailing Duty Operations, performing the non-exclusive functions and duties of the Assistant Secretary for Enforcement and Compliance.

[FR Doc. 2017-21590 Filed 10-5-17; 8:45 am]

BILLING CODE 3510-DS-P